DEPARTMENT OF JUSTICE

Office of Justice Programs

Agency Information Collection Activities: New Collection; Comments Requested

ACTION: 60-Day Notice of Information Collection Under Review: 2006 Survey of Tribal Law Enforcement Record Systems.

The Department of Justice (DOJ), Office of Justice Programs, Bureau of Justice Statistics (BJS), has submitted the following information collection request to the Office of Management and Budget (OMB) for review and approval in accordance with the Paperwork Reduction Act of 1995. The proposed information collection is published to obtain comments from the public and affected agencies. Comments are encouraged and will be accepted for “sixty days” until December 2, 2005. This process is conducted in accordance with 5 CFR 1320.10.

If you have comments especially on the estimated public burden or associated response time, suggestions, or need a copy of the proposed information collection instrument with instructions or additional information, please contact Matthew Hickman, Bureau of Justice Statistics, 810 Seventh St., NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: New collection.

(2) Title of the Form/Collection: 2006 Survey of Tribal Law Enforcement Record Systems.

(3) Agency form number, if any, and the applicable component of the Department of Justice sponsoring the collection: Form Number: None.

(4) Affected public who will be asked or required to respond, as well as a brief abstract: Primary: State, and Local or Tribal Government. This information collection is a survey of law enforcement record systems in tribal law enforcement agencies. The information will provide statistics on tribal agencies' record systems, including protection orders, participation in the National Crime Information Center, state record systems, criminal history records, and fingerprints.

(5) An estimate of the total number of respondents and the amount of time estimated for an average respondent to respond: It is estimated that 200 respondents will complete a one hour form.

(6) An estimate of the total public burden (in hours) associated with the collection: There are an estimated 200 total annual burden hours associated with this collection.

If additional information is required contact: Brenda E. Dyer, Department Clearance Officer, United States Department of Justice, Justice Management Division, Policy and Planning Staff, Patrick Henry Building, Suite 1600, 601 D Street NW., Washington, DC 20530.

Brenda E. Dyer,
Department Clearance Officer, Department of Justice.

[FR Doc. 05-19734 Filed 9-30-05; 8:45 am]

BILLING CODE 4410-18-P